DEPARTMENT OF ENERGY

[OE Docket No. EA-275-C]

Application To Export Electric Energy; NorthPoint Energy Solutions Inc.

AGENCY: Office of Electricity, Department of Energy.

ACTION: Notice of application.

SUMMARY: NorthPoint Energy Solutions Inc. (Applicant or NorthPoint) has applied to renew its authorization to transmit electric energy from the United States to Canada pursuant to the Federal Power Act.

DATES: Comments, protests, or motions to intervene must be submitted on or before February 24, 2020.

ADDRESSES: Comments, protests, motions to intervene, or requests for more information should be addressed to: Office of Electricity, Mail Code: OE-20, U.S. Department of Energy, 1000 Independence Avenue SW, Washington, DC 20585-0350. Because of delays in handling conventional mail, it is recommended that documents be transmitted by overnight mail, by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 7172(f)). Such exports require authorization under section 202(e) of the Federal Power Act (16 U.S.C. 824a(e)).

On December 21, 2009, DOE issued Order EA-275-B, which authorized NorthPoint to transmit electric energy from the United States to Canada as a power marketer for a ten-year term using existing international transmission facilities appropriate for open access. The authorization expires on April 7, 2020. On December 20, 2019, NorthPoint filed an application (Application or App.) with DOE for renewal of the export authorization contained in Order No. EA-275-B for an additional ten-year term.

NorthPoint states in its Application that it “does not own, operate, or control any electric generation, transmission, or distribution facilities in the United States, nor is it affiliated with any owner of electric generation, transmission, or distribution facilities in the United States.” App. at 4. NorthPoint states that it “is a wholly owned subsidiary of SaskPower, a Provincial Crown corporation of the Government of Saskatchewan, Canada” and that “SaskPower is engaged in the generation of power from predominantly thermal sources and the transmission, distribution, and sale of such power to wholesale and retail customers within Saskatchewan.” Id. At 2. NorthPoint further states that “[a]ny power purchased by NorthPoint for export to Canada will be surplus to the needs of the entities selling power to NorthPoint.” Id. at 4. The existing international transmission facilities to be utilized by the Applicant have previously been authorized by Presidential permits issued pursuant to Executive Order 10485, as amended, and are appropriate for open access transmission by third parties.

Procedural Matters: Any person desiring to be heard in this proceeding should file a comment or protest to the application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214). Two (2) copies of such comments, protests, or motions to intervene should be sent to the address provided above on or before the date listed above.

Comments and other filings concerning NorthPoint's application to export electric energy to Canada should be clearly marked with OE Docket No. EA-275-C. Additional copies are to be provided directly to Matthew T. Rick, John & Hengerer LLP, 1629 K Street NW, Suite 402, Washington, DC 20006, and to General Council, SaskPower—Corporate & Regulatory Affairs, 2025 Victoria Avenue, Regina, Saskatchewan, Canada S4P 0S1.

A final decision will be made on this application after the environmental impacts have been evaluated pursuant to DOE's National Environmental Policy Act Implementing Procedures (10 CFR part 1021) and after DOE determines that the proposed action will not have an adverse impact on the sufficiency of supply or reliability of the U.S. electric power supply system.

Copies of this application will be made available, upon request, for public inspection and copying at the address provided above, by accessing the program website at http://energy.gov/node/11845, or by emailing Matthew Aronoff at matthew.aronoff@hq.doe.gov.

Signed in Washington, DC, on January 15, 2020.
Christopher Lawrence,
Management and Program Analyst, Transmission Permitting and Technical Assistance, Office of Electricity.

[FR Doc. 2020-01076 Filed 1-22-20; 8:45 am]

BILLING CODE 6450-01-P